DEPARTMENT OF HOUSING AND URBAN DEVELOPMENT

[Docket No. FR-4301-N-03]

HUD Programs Subject to the Requirements of Title IX of the Education Amendments of 1972

AGENCY: Office of the Secretary, HUD.

ACTION: Notice.

SUMMARY: On August 30, 2000, twenty Federal agencies, including the Department of Housing and Urban Development, published a final common rule providing for the enforcement of Title IX of the Education Amendments of 1972 (referred to as “Title IX”). The August 30, 2000 final rule provides that, by November 30, 2000, each agency shall publish a notice in the Federal Register that identifies its respective programs covered by the Title IX regulations. This notice implements this requirement by publishing the list of HUD programs subject to the requirements of the common rule. HUD will periodically update this notice to reflect changes in the covered programs.

FOR FURTHER INFORMATION CONTACT: David Enzel, Deputy Assistant Secretary for Enforcement and Programs, Office of Fair Housing and Equal Opportunity, Department of Housing and Urban Development, 451 Seventh Street, SW., Washington, DC 20410-0500; telephone (202) 708-0836 (this is not a toll-free telephone number). Hearing or speech-impaired persons may access this number via TTY by calling the toll-free Federal Information Relay Service at 1-800-877-8339.

SUPPLEMENTARY INFORMATION:

I. Background—The August 30, 2000 Common Rule

On August 30, 2000 (65 FR 52858), twenty Federal agencies, including the Department of Housing and Urban Development, published a final common rule providing for the enforcement of Title IX of the Education Amendments of 1972 (20 U.S.C. 1681 et seq.) (referred to as “Title IX”). Title IX prohibits recipients of Federal financial assistance from discriminating on the basis of sex in educational programs or activities. The Title IX regulations were presented as a common rule because the standards established for the enforcement of Title IX are the same for all participating agencies. The procedures for how an agency will enforce Title IX, including the conduct of investigations and compliance reviews, also follows the same structure. HUD's Title IX regulations are located at 24 CFR part 3.

The August 30, 2000 common rule also provides that, by November 30, 2000, each agency shall publish a notice in the Federal Register that identifies its respective programs covered by the Title IX regulations. This notice implements this requirement by publishing the list of HUD programs subject to the requirements of the common rule. HUD will periodically update this notice to reflect changes in the covered programs.

II. HUD Federal Financial Assistance Covered By Title IX

The following list is organized by HUD program office. Where applicable, the program's Catalog of Federal Domestic Assistance (CFDA) number and/or the citation to HUD's implementing regulations in title 24 of the Code of Federal Regulations is also provided.

A. Programs Administered by the Office of Community Planning and Development

1. HOME Investment Partnerships Program (14.239) (24 CFR part 92).

2. Section 312 Rehabilitation Loan Program (24 CFR part 510).

3. Rental Rehabilitation Grant Program (24 CFR part 511).

4. Community Development Block Grants/Entitlement Grants (14.218) (24 CFR part 570, subpart D).

5. Community Development Block Grants/Special Purpose Grants/Insular Areas (14.225) (24 CFR part 570, subpart E)

6. Community Development Block Grants/Special Purpose Grants/Technical Assistance Program (14.227) (24 CFR part 570, subpart E).

7. Historically Black Colleges and Universities Program (14.237) (24 CFR 570.400 and 570.404; 24 CFR part 570 subparts A, C, J, K, and O).

8. Community Development Block Grants/Small Cities Programs (14.219) (24 CFR part 570, subpart F).

9. Community Development Block Grants/Economic Development Initiative (14.246) (24 CFR part 570, subpart M).

10. Community Development Block Grants/Section 108 Loan Guarantees (14.248) (24 CFR part 570, subpart M).

11. State Community Development Block Grants Program (14.228) (24 CFR part 570, subpart I).

12. HOPE for Homeownership of Single Family Homes Program (HOPE 3) (24 CFR 572).

13. Housing Opportunities for Persons With AIDS (HOPWA) Program (14.241) (24 CFR part 574).

14. Emergency Shelter Grants Program (14.231) (24 CFR part 576).

15. Use of Federal Real Property to Assist the Homeless (24 CFR 581).

16. Shelter Plus Care (14.238) (24 CFR part 582).

17. Supportive Housing Program (14.235) (24 CFR part 583).

18. Youthbuild Program (14.243) (24 CFR part 585).

19. Revitalizing Base Closure Communities and Community Assistance—Community Redevelopment and Homeless Assistance (24 CFR part 586).

20. Urban Homesteading (24 CFR part 590).

21. John Heinz Neighborhood Development Program (24 CFR part 594).

22. Urban Empowerment Zones (14.244) (24 CFR parts 597 and 598).

23. Section 8 Moderate Rehabilitation Single Room Occupancy (14.249) (24 CFR part 882).

24. Rural Housing and Economic Development (14.250).

B. Programs Administered by the Office of Fair Housing and Equal Opportunity

1. Fair Housing Assistance Program (14.401) (24 CFR part 115).

2. Fair Housing Initiatives Program—Administrative Enforcement Initiative (14.408) (24 CFR part 125).

3. Fair Housing Initiatives Program—Education and Outreach Initiative (14.409) (24 CFR part 125).

4. Fair Housing Initiatives Program—Private Enforcement Initiative (14.410) (24 CFR part 125).

5. Fair Housing Initiatives Program—Fair Housing Organizations Initiative (14.413) (24 CFR part 125).

C. Programs Administered by the Office of Housing

1. Rent Supplements—Rental Housing for Lower Income Families (14.149) (24 CFR part 215).

2. Operating Assistance for Troubled Multifamily Housing Projects (14.164) (24 CFR part 219).

3. Low Cost and Moderate Income Mortgage Insurance (14.120) (24 CFR part 221).

4. Interest Reduction Payments—Rental and Cooperative Housing for Lower Income Families (14.103) (24 CFR part 236).

5. Nehemiah Housing Opportunity Grants Program (24 CFR part 280).

6. Officer Next Door Sales Program (14.198) (24 CFR part 291).

7. Teacher Next Door Initiative (14.310).

8. Housing Counseling Assistance Program (14.169) (see the Housing Counseling Handbook 7610.01 REV 4).

9. Multifamily Housing Service Coordinators (14.191) (see Housing's Management Agent Handbook 4381.5 REV 2).

10. Congregate Housing Services Program (24 CFR part 700).

11. Federally Assisted Low-Income Housing Drug Elimination Grants Program (14.193) (24 CFR part 761).

12. Housing Development Grants (24 CFR part 850).

13. Section 8 Housing Assistance Payments Program for New Construction (24 CFR 880).

14. Section 8 Housing Assistance Payments Program for Substantial Rehabilitation (24 CFR part 881).

15. Section 8 Housing Assistance Payments Program—State Housing Agencies (24 CFR part 883).

16. Section 8 Housing Assistance Payment Program, New Construction Set-Aside for Section 515 Rural Rental Housing Projects (24 CFR part 884).

17. Section 8 Housing Assistance Payments Program—Special Allocations (14.195) (24 CFR part 886).

18. Supportive Housing for the Elderly (14.157) (24 CFR part 891).

19. Supportive Housing for Persons with Disabilities (14.181) (24 CFR part 891).

D. Programs Administered by the Office of Public and Indian Housing

1. Public and Indian Housing Drug Elimination Program (14.854) (24 CFR 24 part 761).

2. Public Housing Agency Section 8 Fraud Recoveries (24 CFR part 792).

3. New Approaches Anti-Drug Grants (14.312).

4. Lower Income Housing Assistance Program—Section 8 Moderate Rehabilitation (14.856) (24 CFR part 882).

5. Low Rent Housing Homeownership Opportunities (24 CFR part 904).

6. Public Housing Capital Fund (14.872) (24 CFR part 905).

7. Section 5(h) Homeownership Program (24 CFR part 906).

8. Public Housing Development (14.850) (24 CFR part 941).

9. Designated Housing—Public Housing Designated for Occupancy by Disabled, Elderly, or Disabled and Elderly families (24 CFR part 945).

10. Indian HOME Program (24 CFR part 954).

11. Admission to, and Occupancy of, Public Housing (24 CFR part 960).

12. Public Housing—Contracting with Resident-Owned Businesses (24 CFR part 963).

13. Public and Indian Housing—Tenant Opportunities Program (14.853) (24 CFR part 964).

14. PHA-Owned or Leased Projects—General Provisions (24 CFR part 965).

15. Public Housing Modernization (24 CFR part 968).

16. Public Housing Program—Demolition or Disposition of Public Housing Projects (24 CFR part 970).

17. Section 8 Housing Choice Voucher Program (14.871) (24 CFR part 982).

18. Section 8 Project-Based Certificate Program (24 CFR part 983).

19. Section 8 and Public Housing Family Self-Sufficiency Program (24 CFR part 984).

20. Annual Contributions for Operating Subsidy (24 CFR part 990).

21. Economic Development and Support Services Program (14.864).

22. Demolition and Revitalization of Severely Distressed Public Housing (HOPE VI) (14.866).

23. Resident Opportunity and Support Services (14.870).

24. Indian Housing Block Grant Program (14.867) (24 CFR part 1000).

25. Indian Community Development Block Grant Program (14.862) (24 CFR part 1003).

26. Title VI Federal Guarantees for Financing Tribal Housing Activities (14.869) (24 CFR part 1000, subpart E).

E. Programs Administered by the Office of Policy Development and Research

1. Community Outreach Partnership Center Program (14.511).

2. Community Development Work-Study Program (14.512) (24 CFR 570.415).

3. Hispanic-Serving Institutions Work-Study Program (14.513).

4. Alaska Native/Native Hawaiian Institutions Assisting Communities (14.515).

F. Programs Administered by the Office of Multifamily Housing Assistance Restructuring (OMHAR)

1. Multifamily Housing Mortgage and Housing Assistance Restructuring Program (Market-to-Market) (14.197) (24 CFR part 401).

2. Project-Based Section 8 Contract Renewal without Restructuring (under Section 524(a) of MAHRA) (24 CFR part 402).

G. Programs Administered by the Office of Healthy Homes and Lead Hazard Control

1. Lead-Based Paint Hazard Control in Privately Owned Housing (14.900) (24 CFR part 35).

2. Healthy Homes Initiative Grants (14.901).

Dated: December 4, 2000.
Andrew Cuomo,
Secretary.

[FR Doc. 00-32489 Filed 12-20-00; 8:45 am]

BILLING CODE 4210-32-P